FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

AOG International, Inc. (OFF), 4801 Woodway Drive, 371 East Houston, TX 77056, Officers: J. Shelli Ali, Vice President (Qualifying Individual), Christina L. Forth-Matthews, President, Application Type: New OFF License.

Azimuth Lines Inc. (OFF), 111 Ivy Lane, Bridgewater, NJ 08807, Officers: Mohan Krishnamurti, President/Secretary (Qualifying Individual), Radha Ramesh, Treasurer, Application Type: New OFF License.

Berto L. Batista Urena and Juan A. Rodriquez dba Embarque San Miguel (NVO & OFF), 294 Passaic Street, #1, Passaic, NJ 07055, Officer: Berto L. Batista, Partner (Qualifying Individual), Juan Rodriguez, Vice President, Application Type: New NVO & OFF License.

CLN Worldwide, LLC (NVO & OFF), 1825-C Cross Beam Drive, Charlotte, NC 28217, Officer: David E. Sitton, Managing Member (Qualifying Individual), Application Type: New NVO & OFF License.

Conceptum Logistics (USA), LLC (NVO & OFF), 2203 Timberloch Place, #238, The Woodlands, TX 77380, Officers: Pamela H. Ceravolo, Managing Director (Qualifying Individual), Norbert Goerlitz, Vice President/COO, Application Type: QI Change.

Falcon Maritime and Aviation, Inc. (NVO), 159-15 Rockaway Blvd., Jamaica, NY 11434, Officers: Richard A. Shelala, President (Qualifying Individual), Robert M. Shelala, Vice President/Secretary, Application Type: New NVO License.

Global Forwarding Enterprises Limited dba Global GlobalForwarding.com dba ForwardingServices.com dba Global Forwarding Enterprises LLC dba ContainerQuote.com (NVO & OFF), 348 Route 9 N, Suite G, Manalapan, NJ 07726, Officers: Rachel Micari, Manager (Qualifying Individual), Pavel Kapelnikov, Member/Manager, Application Type: Add OFF Service.

I.T. Freight Corporation (NVO & OFF), 1970 NW 129th Avenue, Suite 105, Miami, FL 33182, Officers: Nicolas I. Cassis, Secretary (Qualifying Individual), Jorge Zambrano, President/Treasurer, Application Type: New NVO & OFF License.

Lorden International Inc. (NVO), 1000 Lakes Drive, #260, West Covina, CA 91760, Officers: Larry Lee, Treasurer (Qualifying Individual), Daniel Shaw, President/Secretary, Application Type: New NVO.

Master Transportation Cargo, LLC (OFF), 9600 NW 38th Street, #310, Miami, FL 33178, Officers: Hector J. Vega, Member/Manager (Qualifying Individual), Gustavo H. Alvarez, Member/Manager, Application Type: New OFF License.

Multimodal Container Consulting LLC dba World, Maritime NVOCC (OFF), 2081 Raritan Road, Scotch Plains, NJ 07076, Officers: Robin Lynch, Managing Member (Qualifying Individual), Gina Lynch, Member, Application Type: License Transfer.

Orion SLM LLC (NVO & OFF), 9010 SW 214th Lane, Cutler Bay, FL 33189, Officers: Bernardo Flores, Manager (Qualifying Individual), Michael E.J. Watkins, Member, Application Type: New NVO & OFF License.

Schooner Lines Company (NVO), 34 Conestoga Manor, Leola, PA 17540, Officers: James Madden, Chief Operating Manager (Qualifying Individual), Mykola Chobotar, Chief Executive Manager, Application Type: New NVO License.

Transmarine Shipping, Inc. (NVO & OFF), 11222 S. La Cienega Blvd., #252, Inglewood, CA 90394, Officer: Yuk Lau, Secretary (Qualifying Individual), Shuigen Luo, President/Chief Financial Officer, Application Type: New NVO & OFF License.

Webgistix Corporation (NVO & OFF), 127 E. Warm Springs, #A, Las Vegas, NV 89119, Officer: Joseph Aldo Disorbo, President (Qualifying Individual), Application Type: Add NVO Service.

Dated: April 27, 2012.
Rachel E. Dickon,
Assistant Secretary.

[FR Doc. 2012-10604 Filed 5-1-12; 8:45 am]

BILLING CODE 6730-01-P